FEDERAL RESERVE SYSTEM

Formations of, Acquisitions by, and Mergers of Bank Holding Companies; Correction

This notice corrects a notice (FR Doc. 2010-28126) published on page 68608 of the issue for Monday, November 8, 2010.

Under the Federal Reserve Bank of New York heading, the entry for First Niagara Financial Group, Inc., Buffalo, New York, is revised to read as follows:

A. Federal Reserve Bank of New York (Ivan Hurwitz, Vice President) 33 Liberty Street, New York, New York 10045-0001:

1. First Niagara Financial Group, Inc., Buffalo, New York; to acquire 100 percent of the voting shares of, and thereby merge with NewAlliance Bancshares, Inc., and thereby indirectly acquire voting shares of, and merge with NewAlliance Bank, both of New Haven, Connecticut.

Comments on this application must be received by December 3, 2010.

Board of Governors of the Federal Reserve System, November 8, 2010.
Robert deV. Frierson,
Deputy Secretary of the Board.

[FR Doc. 2010-28464 Filed 11-10-10; 8:45 am]

BILLING CODE 6210-01-P